DEPARTMENT OF LABOR

Employment and Training Administration

[TA-W-51,783 and TA-W-51,783A]

Nabco, Inc., A Delco Remy International Company, Marion, MI; Nabco, Inc., A Delco Remy International Company, Kaleva, MI; Notice of Termination of Investigation

Pursuant to section 221 of the Trade Act of 1974, as amended, an investigation was initiated on May 16, 2003 in response to a worker petition filed by a company official on behalf of workers at NABCO, Inc., A Delco Remy International Company, Marion, Michigan (TA-W-51,783) and NABCO, Inc., A Delco Remy International Company, Kaleva, Michigan (TA-W-51,783A).

The petitioner has requested that the petition be withdrawn. Consequently, the investigation has been terminated.

Signed at Washington, DC, this 19th day of June, 2003.
Elliott S. Kushner,
Certifying Officer, Division of Trade Adjustment Assistance.

[FR Doc. 03-16913 Filed 7-2-03; 8:45 am]

BILLING CODE 4510-30-P